SECURITIES AND EXCHANGE COMMISSION

Sunshine Act; Meetings

Notice is hereby given, pursuant to the provisions of the Government in the Sunshine Act, Public Law 94-409, that the Securities and Exchange Commission will hold the following meeting during the week of March 11, 2002.

Closed meetings will be held on Tuesday, March 12, 2002 and Thursday, March 14, 2002 at 10 a.m.

Commissioner Glassman, as duty officer, determined that no earlier notice thereof was possible.

Commissioners, Counsel to the Commissioners, the Secretary to the Commission, and recording secretaries will attend the closed meetings. Certain staff members who have an interest in the matters may also be present.

The General Counsel of the Commission, or his designee, has certified that, in his opinion, one or more of the exemptions set forth in 5 U.S.C. 552b(c)(3), (5), (6), (7), (8), (9)(B), and (10) and 17 CFR 200.402(a)(3), (5), (6), (7), (9), 9(ii) and (10), permit consideration of the scheduled matters at closed meetings.

The subject matter of the closed meeting scheduled for Tuesday, March 12, 2002, will be:

Inspection point.

Institution and settlement of injunctive actions;

Institution and settlement of administrative proceedings of an enforcement nature; and

Formal orders of investigation.

The subject matter of the closed meeting scheduled for Thursday, March 14, 2002, will be:

Inspection point.

Institution and settlement of injunctive actions;

Institution and settlement of administrative proceedings of an enforcement nature; and

Formal orders of investigation.

At times, changes in Commission priorities require alterations in the scheduling of meeting items. For further information and to ascertain what, if any, matters have been added, deleted or postponed, please contact:

The Office of the Secretary at (202) 942-7070.

Dated: March 6, 2002.
Jonathan G. Katz,
Secretary.

[FR Doc. 02-5809 Filed 3-6-02; 3:53 pm]

BILLING CODE 8010-01-M